OFFICE OF NATIONAL DRUG CONTROL POLICY

Paperwork Reduction Act; 30-Day Notice

AGENCY: Office of National Drug Control Policy.

The Office of National Drug Control Policy (ONDCP) proposes the collection of information concerning the adoption of two new Healthcare Common Procedure Coding System (HCPCS) codes for alcohol and drug screening and brief intervention. ONDCP received no comments, suggestions, or questions during the 60-day notice period. ONDCP hereby invites interested persons to submit comments to the Office of Management and Budget (OMB) regarding any aspect of this proposed effort.

Type of Collection: Survey of State Medicaid Directors.

Title of Information Collection: States' adoption of Healthcare Common Procedure Coding System codes (H0049) and (H0050) and assessment of support provided by the Centers for Medicare & Medicaid Services.

Frequency: One time.

Affected Public: Instrumentalities of state healthcare entities.

Estimated Burden: Minimal. State Medicaid Agencies already maintain records concerning the HCPC codes they have adopted, and can easily inform ONDCP of the level of support provided by the Centers for Medicare & Medicaid Services concerning the same.

Send comments to John Kraemer, OMB Desk Officer for ONDCP, New Executive Office Building, Room 10235, Washington, DC 20503. Comments must be received within 30 days. Request additional information by e-mail to Meredith_L._DeFraites@ondcp.eop.gov or facsimile transmission to (202) 395-5571, attention: Meredith DeFraites, ONDCP, Office of Performance and Budget.

Signed in Washington, DC, on April 22, 2008.
Daniel R. Petersen,
Assistant General Counsel.

[FR Doc. E8-9166 Filed 4-25-08; 8:45 am]

BILLING CODE 3180-02-P